DEPARTMENT OF TRANSPORTATION

Federal Aviation Administration

Thirty Second RTCA SC-217 Aeronautical Databases Joint Plenary With EUROCAE Working Group #44

AGENCY: Federal Aviation Administration (FAA), U.S. Department of Transportation (DOT).

ACTION: Thirty Second RTCA SC-217 Aeronautical Databases Joint Plenary with EUROCAE Working Group #44.

SUMMARY: The FAA is issuing this notice to advise the public of a meeting of Thirty Second RTCA SC-217 Aeronautical Databases Joint Plenary with EUROCAE Working Group #44.

DATES: The meeting will be held February 27—March 2, 2018 9:00 a.m.—5:00 p.m.

ADDRESSES: The meeting will be held at: EUROCONTROL—Rue de la Fusée, 96 1130, Brussels (Haren), Belgium. Registration is required to attend.

FOR FURTHER INFORMATION CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Thirty Second RTCA SC-217 Aeronautical Databases Joint Plenary with EUROCAE Working Group #44. The agenda will include the following:

Tuesday, February 27, 2018, 9:00 a.m.-5:00 p.m.

1. Housekeeping & Meeting Logistics

2. DFO Statement and RTCA/EUROCAE IP and Membership Policies

3. Approve Minutes From 30th Meeting of SC-217/WG-44

4. Review and Approve Meeting Agenda for 30th Meeting of SC-217/WG-44

5. Action Item List Review

6. Working Group Sessions

Wednesday, February 28, 2018, 9:00 a.m.-5:00 p.m.

7. Working Group Sessions

Thursday, March 1, 2018, 9:00 a.m.-5:00 p.m.

8. Working Group Sessions

Friday, March 2, 2018, 9:00 a.m.-12:00 p.m.

9. Working Group Sessions

10. Approve Draft ED-77A/DO-201B for FRAC Process

11. Meeting Wrap-Up: Main Conclusions and Way Forward

12. Review of Action Items

13. Next Meetings

14. Any Other Business

15. Adjourn

Attendance is open to the interested public but limited to space availability. Registration is required to attend. With the approval of the chairman, members of the public may present oral statements at the meeting. Persons wishing to attend, present statements or obtain information should contact the person listed in the FOR FURTHER INFORMATION CONTACT section. Members of the public may present a written statement to the committee at any time. Issued in Washington, DC on January 24, 2018.

Mohannad Dawoud,
Management & Program Analyst, Partnership Contracts Branch, ANG-A17, NextGen, Procurement Services Division, Federal Aviation Administration.

[FR Doc. 2018-01560 Filed 1-26-18; 8:45 am]

BILLING CODE 4910-13-P